DEPARTMENT OF HEALTH AND HUMAN SERVICES

National Institutes of Health

Submission for OMB Review; Comment Request; Pilot Study Evaluating the Cross-Cultural Equivalency of the Tobacco Use Supplement to the Current Survey (TUS-CPS); Correction

As published in the Federal Register, September 16, 2004 (69 FR 55824), the notice contains an error in the first sentence of the SUMMARY section. In referencing provisions of the Paperwork Reduction Act, we inadvertently cited section 3506(c)(2)(A). Accordingly, the referenced section is corrected to read “3507(a)(1)(D).”

Dated: September 22, 2004.
Rachelle Ragland-Greene,
NCI Project Clearance Liaison, National Institutes of Health.

[FR Doc. 04-21988 Filed 9-29-04; 8:45 am]

BILLING CODE 4140-01-M